AMERICAN BATTLE MONUMENTS COMMISSION

SES Performance Review Board

AGENCY: American Battle Monuments Commission.

ACTION: Notice.

SUMMARY: Notice is hereby given of the appointment of members of the ABMC Performance Review Board.

FOR FURTHER INFORMATION CONTACT: Theodore Gloukhoff, Director of Personnel and Administration, American Battle Monuments Commission, Courthouse Plaza II, Suite 500, 2300 Clarendon Boulevard, Arlington, Virginia, 22201-3367, Telephone Number: (703) 696-6908. American Battle Monuments Commission SES Performance Review Board Mr. Gerald W. Barnes, Chief, Operations Division, U.S. Army Corps of Engineers Mr. Donald L. Basham, Chief, Engineering & Construction, U.S. Army Corps of Engineers Mr. Stephen Coakley, Director of Resource Management, US Army Corps of Engineers

Theodore Gloukhoff,
Director, Personnel and Administration.

[FR Doc. E5-7257 Filed 12-12-05; 8:45 am]

BILLING CODE 6120-01-P